DEPARTMENT OF THE INTERIOR

Bureau of Reclamation

[RR83550000, 256R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Morgan Raymond, Reclamation Law Administration Division, Bureau of Reclamation, P.O. Box 25007, Denver, Colorado 80225-0007; mraymond@usbr.gov; telephone 303-445-3382. Individuals who are deaf, deafblind, hard of hearing, or have a speech disability may dial 711 (TTY TDD, or TeleBraille) to access telecommunications relay services. Individuals outside the United States should use the relay services offered within their country to make international calls to the point-of-contact in the United States.

SUPPLEMENTARY INFORMATION: Consistent with section 9(f) of the Reclamation Project Act of 1939 and the regulations at 43 CFR 426.22, Reclamation publishes notice of proposed or amendatory contract actions for any contract for the delivery of project water for authorized uses. Notices are published in newspapers of general circulation in the affected area at least 60 days prior to contract execution. Announcements may be in the form of news releases, legal notices, official letters, memorandums, or other forms of written material. Meetings, workshops, and/or hearings may also be used, as appropriate, to provide local publicity.

The public participation procedures do not apply to proposed contracts for the sale of surplus or interim irrigation water for a term of 1 year or less. Either of the contracting parties may invite the public to observe contract proceedings. All public participation procedures will be coordinated with those involved in complying with the National Environmental Policy Act.

Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports.

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, Federal Building, 2021 4th Avenue North, Billings, Montana 59101, telephone 406-247-7733.

1. Irrigation, M&I, and miscellaneous water users, Colorado, Kansas, Montana, Nebraska, North Dakota, Oklahoma, South Dakota, Texas, and Wyoming: Water service contracts for the sale, conveyance, storage, and exchange of surplus project water and non-project water for irrigation or M&I use to provide up to 10,000 acre-feet of water annually for a term of up to 1 year, or up to 1,000 acre-feet of water annually for a term of up to 40 years.

2. Water user entities responsible for payment of O&M costs for Reclamation projects in Colorado, Kansas, Montana, Nebraska, North Dakota, Oklahoma, South Dakota, Texas, and Wyoming: Contracts for XM funded pursuant to title IX, subtitle G of Public Law 111-11.

3. Green Mountain Reservoir, Colorado-Big Thompson Project, Colorado: Water service contracts for irrigation and M&I; contracts for the sale of water from the marketable yield to water users within the Colorado River Basin of western Colorado.

4. Fryingpan-Arkansas Project, Colorado: Consideration of excess capacity contracting.

5. Colorado-Big Thompson Project, Colorado: Consideration of excess capacity contracting.

6. Milk River Project, Montana: Proposed amendments to contracts to reflect current landownership.

7. Title transfer agreements; Colorado, Kansas, Montana, Nebraska, North Dakota, Oklahoma, South Dakota, Texas, and Wyoming: Potential title transfer agreements pursuant to the John D. Dingell, Jr. Conservation, Management, and Recreation Act of March 12, 2019 (Pub. L. 116-9).

8. Water user entities responsible for payment of reimbursable costs for Reclamation projects in Colorado, Kansas, Montana, Nebraska, North Dakota, Oklahoma, South Dakota, Texas, and Wyoming: Contracts to be executed pursuant to title IX of the Infrastructure Investment and Jobs Act of November 15, 2021 (Pub. L. 117-58) and/or contracts for XM pursuant to title IX, subtitle G of Omnibus Public Land Management Act of March 30, 2009 (Pub. L. 111-11). For more information, please see the Reclamation press release at https://www.usbr.gov/newsroom/#/news-release/4205.

9. Garrison Diversion Conservancy District, Garrison Diversion Unit, P-SMBP, North Dakota: Intent to modify long-term water service contract to add irrigated acres.

10. Pitkin County and City of Aurora, Ruedi Reservoir, Fryingpan-Arkansas Project, Colorado: Consideration of excess capacity contract at Ruedi Reservoir.

11. Lugert-Altus ID, W.C. Austin Project, Oklahoma: Consideration for amendment to contract No. Ilr-1375.

12. City of Casper, Kendrick Project, Wyoming: Consideration for renewal of long-term water service contract No. 2-07-70-W0534.

13. Arkansas Valley Conduit, Fryingpan-Arkansas Project, Colorado: Consideration of a repayment contract.

14. 71 Ranch, L.P., Canyon Ferry Unit, P-SMBP, Montana: Consideration for a new long-term contract for an irrigation water supply.

15. Board of Water Works of Pueblo, Fryingpan-Arkansas Project, Colorado: Consideration for amendment to assign contract No. 039E6C0117.

16. Frenchman-Cambridge ID, Frenchman-Cambridge Division, P-SMBP, Nebraska: Consideration to amend contract for change to place of use and point of diversion.

17. Greenfields ID, Sun River Project, Montana: Consideration for Lease of Power Privilege for Pishkun Inlet and additional sites.

18. White Rock Oil & Gas, Lower Yellowstone Project, Montana: Consideration of an excess capacity contract for conveyance of an M&I water supply.

19. Gray Goose ID, Gray Goose Project, P-SMBP, South Dakota: Consideration for amendment to contract No. 0-07-60-W0563 for inclusion of lands.

20. Hillcrest Colony, Inc., Canyon Ferry Unit, P-SMBP, Montana: Consideration for renewal of long-term water service contract No. 149E670110.

21. Pueblo West Metro District, Fryingpan-Arkansas Project, Colorado: Consideration for renewal of long-term water service contract No. 4-07-70-W0692.

22. Crow Creek Sioux Tribe, Crow Creek Irrigation Project, P-SMBP, North Dakota: Consideration for renewal of contract for project use power.

23. City of Dickinson, North Dakota Dickinson Unit, P-SMBP, Eastern Division, North Dakota: Consideration for long-term M&I water service contract.

24. Town of Kirby, Boysen Unit, P-SMBP, Wyoming: Consideration for renewal of long-term water service contract No. 5-07-60-WS173.

25. Central Oklahoma Master Conservancy District, Norman Project, Oklahoma: Consideration for renewal for water service contract No. 219E640007.

26. Black Canyon Hydro, Kendrick Project, Glendo Unit, P-SMBP, Wyoming: Consideration for long-term water service and excess capacity contract.

27. City of Loveland, Colorado, the Northern Colorado Water Conservancy District, and the City of Loveland Colorado Water Enterprise, Colorado-Big Thompson Project, Colorado: Consideration for renewal of long-term contract for conveyance of non-project M&I water.

28. Southeastern Colorado Water Conservancy District, Fryingpan-Arkansas Project, Colorado: Consideration for renewal of contract 9-07-70-W0315.

29. Fort Clark ID, Fort Clark Unit, P-SMBP, North Dakota: Consideration to renew water service contract 209E630059.

Completed contract actions:

1. (11) Fresno Dam, Milk River Project, Montana: Consideration of contract(s) for repayment of SOD costs.

2. (17) Tintina Montana, Inc., Canyon Ferry Unit, P-SMBP, Montana: Consideration for a long-term contract for an M&I mitigation water supply. Completed on December 11, 2024.

3. (24) Axtell Ranches, LLC, Boysen Unit, Wyoming: Renewal of long-term irrigation water service contract No. 049E6A0013. Completed August 19, 2024.

4. (26) Clyde Little, Boysen Unit, P-SMBP, Wyoming: Consideration for renewal of long-term irrigation water service contract No. 039E6A0093, as amended. Completed on January 6, 2025.

5. (30) Elevation NewCo, LLC, East Bench Unit, Helena-Great Falls Division, P-SMBP, Montana: Name re-assignment of contract No. 119E670012. Completed September 30, 2024.

Upper Colorado Basin—Interior Region 7: Bureau of Reclamation, 125 South State Street, Room 8100, Salt Lake City, Utah 84138-1102, telephone 801-524-3600.

1. Individual irrigators, M&I, and miscellaneous water users, Initial Units, CRSP, Utah, Wyoming, Colorado, and New Mexico: Temporary (interim) water service contracts for surplus project water for irrigation or M&I use to provide up to 10,000 acre-feet of water annually for terms up to 5 years; long-term contracts for similar service for up to 1,000 acre-feet of water annually.

2. Contracts with various water user entities responsible for payment of O&M costs for Reclamation projects in Arizona, Colorado, New Mexico, Texas, Utah, and Wyoming: Contracts for extraordinary maintenance and replacement funded pursuant to title IX, subtitle G of Public Law 111-11 to be executed as project progresses.

3. Middle Rio Grande Project, New Mexico: Reclamation will continue annual leasing of water from various San Juan-Chama Project contractors in 2024 to stabilize flows in a critical reach of the Rio Grande to meet the needs of irrigators and preserve habitat for the silvery minnow. Reclamation leased approximately 7,308 acre-feet of water from San Juan-Chama Project contractors in 2022.

4. South Cache Water Users Association, Hyrum Project, Utah: Reclamation intends to enter into a repayment contract with the South Cache Water Users Association under the Safety of Dams Act for the reimbursable portion of the costs to repair the spillway at Hyrum Dam.

5. Strawberry Valley Project, Utah: The water users on the Strawberry Valley Project have requested to enter into a conversion contract with Reclamation under the Sale of Water for Miscellaneous Purposes Act to convert the project irrigation water to miscellaneous purposes.

6. Seedskadee Project, Wyoming: The Wyoming Water Development Commission (WWDC) desires to enter into a contract with Reclamation to acquire the use of the remaining water in Fontenelle Reservoir under Section 9 of the Reclamation Project Act of 1939. The WWDC also desires to enter into an exchange contract with Reclamation under Section 14 of the Reclamation Projects Act of 1939.

7. Uncompahgre Project, Colorado River Storage Project, Colorado: The Uncompahgre Valley Water Users Association desires to enter into a renewal contract with Reclamation under Section 14 of the Reclamation Project Act of 1939 to exchange water between Taylor Park Reservoir and Blue Mesa Reservoir.

8. Navajo Gallup Project, Arizona: The Navajo Nation desires to enter into a contract with Reclamation under the Contributed Funds Act of 1922 to provide funding to increase the size of certain laterals on the Navajo Gallup Project.

9. Middle Rio Grand Project, New Mexico: The Bureau of Reclamation desires to store native Rio Grande system water and San Juan Chama Project water in Abiquiu Reservoir under existing O&M authorities. This is a five-year agreement with options to extend the terms, if needed.

10. Carlsbad Project, New Mexico: Reclamation is working with the Carlsbad Irrigation District to generate a new or replacement contract which will be compliant with the Federal Acquisition Regulations for the payment of OM&R expenses.

11. Washington County Water Conservancy District, Utah: The District desires to enter into contract with Reclamation to construct, operate and maintain the Regional Reuse Purification System under title XVI of the Reclamation Projects Authorization and Adjustment Act of 1992 (Pub. L. 102-575).

12. Southern Ute Tribe, Animas-La Plata Project, Colorado: Southern Ute Tribe has requested an amendment to its 2016 repayment contract for 38,105 acre-feet of M&I water; contract terms to be consistent with the Colorado Ute Settlement Act Amendments of 2000 (title III of Pub. L. 106-554).

Completed contract actions:

1. (5) Pojoaque Valley ID, San Juan-Chama Project, New Mexico: Amendment to the repayment contract to reflect the changed allocations of the Aamodt Litigation Settlement Act (title VI of the Claims Resolution Act of 2010, Pub. L. 111-291, December 8, 2010, and Article 7 of the Settlement Agreement dated April 19, 2012). Completed May 23, 2023.

2. (12) Navajo-Gallup Water Supply Project, New Mexico: Negotiations for an OM&R transfer contract with the Navajo Tribal Utility Authority pursuant to Public Law 111-11, Section 10602(f) which transfers responsibilities to carry out the OM&R of transferred works of the Project; ensures the continuation of the intended benefits of the Project; distribution of water; and sets forth the allocation and payment of annual OM&R costs of the Project. Completed June 30, 2022.

3. (24) Public Service Company of New Mexico, Navajo-Gallup Water Supply Project, New Mexico: Negotiations for a carriage contract with Public Service Company of New Mexico pursuant to Public Law 111-11, Section 10602(h), which provides conveyance and storage of non-project water through Project facilities and sets forth payment of OM&R costs assignable to the Company for the use of Project facilities. Completed November 7, 2023.

4. (27) Jicarilla Apache Nation, Navajo Project, New Mexico: Water service agreement between the Jicarilla Apache Nation and SIMCOE for delivery of 1,500 acre-feet of M&I water from the Jicarilla's Settlement Water from the Navajo Reservoir Supply. This agreement has a term through December 31, 2026. Completed April 25, 2023.

5. (28) San Juan Water Commission, Public Service Company of New Mexico, and the La Plata Conservancy District, Animas-La Plata Project, New Mexico: Contract for the delivery of 500 acre-feet of M&I water from the Navajo Reservoir supply as supplemented via exchange of Animas-La Plata Project water at the confluence of the San Juan and Animas Rivers. This agreement has a term through December 31, 2032. Completed November 9, 2023.

6. (37) Los Ranchitos Estates, Florida Project, Colorado: Long-term water service contract (25 years) to augment depletions from residential water uses within the subdivision. The contract is for 36 acre-feet of water annually. Completed August 9, 2023.

7. (38) Forrest Groves Estates, Florida Project, Colorado: Long-term water service contract (25 years) to augment depletions from residential water uses within the subdivision. The contract is for 43 acre-feet of water annually. Completed August 9, 2023.

8. (39) Country Aire Estates, Florida Project, Colorado: Long-term water service contract (25 years) to augment depletions from residential water uses within the subdivision. The contract is for 7 acre-feet of water annually. Completed August 9, 2023.

9. (40) Ute Mountain Ute Tribe, Animas-La Plata Project, Colorado: Ute Mountain Ute Tribe has requested a water delivery contract for 16,525 acre-feet of M&I water; contract terms to be consistent with the Colorado Ute Settlement Act Amendments of 2000 (title III of Pub. L. 106-554).

Discontinued contract actions:

1. (20) Moon Lake Water Users Association, Moon Lake Project, Utah: The Association was interested in installing a small hydro-electric generation plant on the outlet works of Moon Lake Dam.

2. (22). Eden Valley IDD, Eden Project, Wyoming: The Eden Valley IDD proposed to raise the level of Big Sandy Dam to fully perfect its water rights.

3. (25) Enchant Energy Corporation, Navajo-Gallup Water Supply Project, New Mexico (Project): Negotiations for a carriage contract with Enchant Energy Corporation pursuant to Public Law 111-11, Section 10602(h) which provides conveyance and storage of non-project water through Project facilities and sets forth payment of OM&R costs assignable to Enchant Energy for the use of Project facilities.

4. (34) D. E. Shaw Renewable Investments, Navajo-Gallup Water Supply Project, New Mexico: Reclamation received a request for negotiations for a carriage contract with Shaw pursuant to Public Law 111-11, Section 10602(h) which provides conveyance and storage of non-project water through project facilities and sets forth payment of OM&R costs assignable to the Shaw for the use of project facilities.

5. (41) Weber Basin Water Conservancy District, Weber Basin Project, Utah: Contract for the use of return flows from the Weber Basin Project.

6. (42) Albuquerque Bernalillo County Water Utility Authority, San Juan-Chama Project, New Mexico: A two-year extension letter for temporary water storage contract No. 21-WC-40-912 is discontinued.

7. (43) Middle Rio Grande Conservancy District, Middle Rio Grande Project—El Vado, New Mexico: Negotiations for a 20-year repayment contract for XM work on the El Vado Stilling Basin at El Vado Dam. Funding is provided under Section 40901(2) of the Bipartisan Infrastructure Law of 2021 (Pub. L. 117-58, 135 Stat.429, 43 U.S.C. 3201). This contract has been put on hold.

Lower Colorado Basin—Interior Region 8: Bureau of Reclamation, P.O. Box 61470 (Nevada Highway and Park Street), Boulder City, Nevada 89006-1470, telephone 702-293-8192.

1. Milton and Jean Phillips, BCP, Arizona: Develop a Colorado River water delivery contract for 60 acre-feet of Colorado River water per year, as recommended by the Arizona Department of Water Resources.

2. Ogram Boys Enterprises, Inc., BCP, Arizona: Revise Exhibit A of the contract to change the contract service area and points of diversion and delivery.

3. Gold Dome Mining Corporation and Wellton-Mohawk IDD, Gila Project, Arizona: Terminate contract No. 0-07-30-W0250 pursuant to Articles 11(d) and 11(e).

4. Estates of Anna R. Roy and Edward P. Roy, Gila Project, Arizona: Terminate contract No. 6-07-30-W0124 pursuant to Article 9(c).

5. Desert Lawn Memorial Park Association, Inc., Yuma Auxiliary Project, Arizona: Review of terms of contract No. 14-06-300-2587.

6. Armon Curtis, BCP, Arizona: Amendment and partial assignment of the water delivery contract for transfer of ownership of the Armon Curtis deeded land and exclude lands owned by the United States.

7. Gary and Barbara Pasquinelli and Pasquinelli, Gary J Trust/90, BCP, Arizona: Amendment and assignment of the water delivery contract for transfer of ownership to Pasquinelli, Gary J Trust/90.

8. Present Perfected Right 30, BCP, California: Offer contracts for delivery of Colorado River water to holders of miscellaneous Present Perfected Rights as described in the 2006 Consolidated Decree in Arizona v. California, 547 U.S. 150.

9. Mohave Water Conservation District and Bullhead City, Arizona; BCP; Arizona: Enter into a proposed contract No. 9-07-30-W0012, assignment of Arizona fourth-priority Colorado River water entitlement of 1,800 acre-feet per year from the District to Bullhead City and amend Bullhead City's Colorado River water delivery contract No. 2-07-30-W0273 to increase its Colorado River water entitlement from 15,210 to 17,010 acre-feet per year and increase the Bullhead City contract service area to include the District's land that previously received Colorado River water pursuant to contract No. 9-07-30-W0012.

10. Gila Monster Farms Partnership, LLC, BCP, Arizona: Proposed partial assignment of contract No. 6-07-30-W0337 providing for the transfer of ownership of 480 acres within the contract service area to Tama Land Pacific, LLC, and transfer of associated Colorado River water in the appropriate quantity and priority associated with the land purchased. Amend Gila Monster Farms Partnership, LLC Colorado River water delivery contract No. 6-07-30-W0337 to decrease its Colorado River water entitlement commensurate with the partial assignment.

11. Milton and Jean Phillips, BCP, Arizona: Develop a Colorado River water delivery contract for 42 acre-feet of Colorado River water per year, in accordance with Present Perfected Right No. 19 as described in the 2006 Consolidated Decree in Arizona v. California, 547 U.S. 150.

12. Water user entities responsible for payment of reimbursable costs for Reclamation projects in Arizona and California: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see the Reclamation press release at https://www.usbr.gov/newsroom/#/news-release/4205.

13. Yuma ID, Gila Project, Arizona: Potential title transfer of an office building and land to the District pursuant to the John D. Dingell, Jr. Conservation, Management, and Recreation Act of March 12, 2019 (Pub. L. 116-9).

14. Kaman, Inc., Yuma Mesa Division, Gila Project, Arizona: Terminate contract No. 14-06-303-1555 pursuant to Article 13.

15. Cibola Sportsman's Club, BCP, Arizona: Realignment of Cibola Sportsman's Club's contract service area under Colorado River water delivery contract No. 21-XX-30-W0717 to include La Paz County Assessor Parcel No. 301-08-009A and exclude this parcel of land from Cibola Valley IDD's contract service area under contract No. 2-07-30-W0028, as amended.

16. Arizona State Land Department, City of Phoenix, Central Arizona Water Conservation District, CAP, Arizona: Proposed transfer of 3,900 acre-feet per year of CAP M&I water under Arizona State Land Department's subcontract No. 07-XX-30-W0503 to the City of Phoenix.

17. Circle City Water Company, LLC, City of Surprise, Central Arizona Water Conservation District, CAP, Arizona: Proposed transfer of 3,932 acre-feet per year of CAP M&I water to Surprise resulting in termination of Circle City's subcontract No. 07-XX-30-W0463 and increasing the water entitlement under Surprise's subcontract No. 07-XX-30-W0505 to 14,181 acre-feet per year of CAP M&I water.

Completed contract action:

1. (5) ChaCha, LLC, BCP, Arizona: Assignment of the water delivery contract for transfer of ownership of the land within ChaCha LLC's contract service area. Completed on August 26, 2024.

2. (16) GM Gabrych Family Limited Partnership, BCP, Arizona: Proposed assignment of Colorado River water delivery contract No. 17-XX-30-W0628 providing for 4,500 acre-feet of Arizona fourth-priority water for irrigation use and proposed assignment of system conservation implementation agreement No. 23-XX-30-W0774 that provides the terms and conditions for creating system conservation water in calendar years 2023, 2024, and 2025 to Matador Farms, LLC. Completed on October 21, 2024.

3. (17) Department of Defense and Department of the Navy, BCP, Arizona: Terminated interagency agreement No. 6-07-30-W0351 pursuant to Article 4. Contract terminated on September 18, 2024.

4. (24) New Magma IDD and the Tohono O'odham Nation, CAP, Arizona: Agreement for the delivery of the Tohono O'odham Nation's CAP water for water storage at a ground water savings facility, dated January 1, 2023. Contract approved on October 7, 2024.

5. (25) Queen Creek ID and the Tohono O'odham Nation, CAP, Arizona: Approval of agreement for the delivery of the Tohono O'odham Nation's CAP water for water storage at a ground water savings facility, dated August 16, 2024. Contract approved on November 20, 2024.

6. (26) San Carlos Apache Tribe and the Pascua Yaqui Tribe, CAP, Arizona: CAP water lease for calendar year 2024. Completed on September 20, 2024.

7. (22) Ak-Chin Indian Community and Del Webb Corporation, CAP, Arizona: Proposed approval of first amendment to the supplement and restated option and lease agreement. Completed on December 20, 2024.

8. (23) Ak-Chin Indian Community, Del Webb Corporation, Anthem Arizona, LLC, and EPCOR Water Arizona Inc., CAP, Arizona: Proposed approval of fifth amendment to the agreement for Anthem Water/Wastewater Infrastructure. Completed on December 20, 2024.

Columbia-Pacific Northwest—Interior Region 9: Bureau of Reclamation, 1150 North Curtis Road, Suite 100, Boise, Idaho 83706-1234, telephone 208-378-5306.

1. Irrigation, M&I, and Miscellaneous Water Users, Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project Idaho; Clark and Edwards Canal and Irrigation Company, Enterprise Canal Company, Ltd., Lenroot Canal Company, Liberty Park Canal Company, Poplar ID, all in the Minidoka Project, Idaho; and Juniper Flat District Improvement Company, Wapinitia Project, Oregon; Whitestone Reclamation District, Chief Joseph Project, Washington: Amendatory repayment and water service contracts; purpose is to conform to the RRA.

5. Burley and Minidoka IDs, Minidoka Project, Idaho: Supplemental and amendatory contracts to transfer the O&M of the Main South Side Canal Headworks to the Burley ID and transfer the O&M of the Main North Side Canal Headworks to the Minidoka ID.

6. Clean Water Services and Tualatin Valley ID, Tualatin Project, Oregon: Long-term water service contract that provides for the District to allow Clean Water Services to beneficially use up to 6,000 acre-feet annually of stored water for water quality improvement.

7. Falls ID, Michaud Flats Project, Idaho: Amendment to contract No. 14-06-100-851 to authorize the district to participate in state water rental pool.

8. Roza ID, Yakima Project, Washington: Contract for use of water in dead space of Kachess Reservoir and construction of a pumping plant.

9. Windy River LLC, Umatilla Project, Oregon: Contract for use of project facilities pursuant to the Warren Act.

10. Water user entities responsible for repayment of reimbursable project construction costs in Idaho, Washington, Oregon, Montana, and Wyoming: Contracts for conversion or prepayment executed pursuant to the WIIN Act.

11. Title Transfer Agreements, Idaho, Washington, Oregon, Montana, and Wyoming: Potential title transfer agreements pursuant to the John D. Dingell, Jr. Conservation, Management, and Recreation Act of March 12, 2019 (Pub. L. 116-9).

12. Irrigation WDs, Idaho, Washington, Oregon, Montana, and Wyoming: Temporary Warren Act contracts for terms of up to 5 years providing for use of excess capacity in Reclamation facilities for annual quantities exceeding 10,000 acre-feet.

13. Idaho, Washington, Oregon, Montana, and Wyoming: Aquifer Recharge Flexibility Act (Pub. L. 116-260) contracts that allow the use of excess capacity in Reclamation facilities for aquifer recharge of non-Reclamation project water.

14. Storage Division, Yakima Project, Washington: Contracts with water user entities for the repayment of reimbursable shares of the costs of the SOD program modification for Kachess Dam.

15. Water user entities responsible for payment of reimbursable costs for Reclamation projects in Idaho, Washington, and parts of Montana, Oregon, and Wyoming: Contracts to be executed pursuant to title IX of the Infrastructure Investment and Jobs Act of November 15, 2021 (Pub. L. 117-58) and/or contracts for XM pursuant to title IX, subtitle G of Omnibus Public Land Management Act of March 30, 2009 (Pub. L. 111-11). For more information regarding the Bipartisan Infrastructure Law go to https://www.usbr.gov/bil/.

16. Columbia Basin Project Water Users, Columbia Basin Project, Washington: M&I water service contracts, $48 per acre-foot, per annum.

17. North Unit ID, Crooked River Project, Oregon: The Crooked River Collaborative Water Security and Jobs Act of 2014 (Pub. L. 113-244) provides that Reclamation may contract up to 10,000 acre-feet of water annually, on the request of the North Unit ID, from Prineville Reservoir pursuant to temporary water service contracts.

18. Okanogan ID, Okanogan Project, Washington: Contract for the repayment of reimbursable share of the costs of the SOD program modification for Conconully Dam.

19. Tualatin Project Water Users, Tualatin Project, Oregon: Contracts with water user entities for the repayment of reimbursable share of the costs of the SOD program modification for Scoggins Dam.

California-Great Basin—Interior Region 10: Bureau of Reclamation, 2800 Cottage Way, Sacramento, California 95825-1898, telephone 916-978-5250.

1. Irrigation WDs, individual irrigators, M&I and miscellaneous water users, California, Nevada, and Oregon: Short-term (up to 5 years) water service contracts for available project water for irrigation, M&I, or fish and wildlife purposes providing up to 10,000 acre-feet of water annually; Warren Act contracts for use of excess capacity in project facilities for quantities that could exceed 10,000 acre-feet annually; and contracts for similar services for up to 1,000 acre-feet annually.

2. State of California, Department of Water Resources, CVP, California: Temporary or short-term conveyance agreements for various purposes.

3. Sutter Extension WD, Delano-Earlimart ID, Pixley ID, the State of California Department of Water Resources, and the State of California Department of Fish and Wildlife, CVP, California: Pursuant to Public Law 102-575, agreements with non-Federal entities for the purpose of providing funding for Central Valley Project Improvement Act refuge water conveyance and/or facilities improvement construction to deliver water for certain Federal wildlife refuges, state wildlife areas, and private wetlands.

4. CVP Service Area, California: Temporary water acquisition agreements for purchase of 5,000 to 200,000 acre-feet of water for fish and wildlife purposes as authorized by Public Law 102-575 for terms of up to 5 years.

5. Horsefly, Klamath, Langell Valley, and Tulelake IDs, Klamath Project, Oregon: Repayment contracts for SOD work on Clear Lake Dam. These districts will share in repayment of costs, and each district will have a separate contract.

6. Irrigation WDs, individual irrigators, M&I and miscellaneous water users, CVP, California: Execution of long-term Warren Act contracts (up to 40 years) with various entities for conveyance of non-project water in the CVP.

7. Tuolumne Utilities District (formerly Tuolumne Regional WD), CVP, California: Long-term water service contract for up to 6,000 acre-feet from New Melones Reservoir, and possibly a long-term contract for storage of non-project water in New Melones Reservoir.

8. Pershing County Water Conservation District, Pershing County, State of Nevada, and Lander County, Humboldt Project, Nevada: Title transfer of lands and features of the Humboldt Project.

9. Irrigation contractors, Klamath Project, Oregon: Amendment of repayment contracts or negotiation of new contracts to allow for recovery of additional capital costs.

10. City of Santa Barbara, Cachuma Project, California: Execution of a long-term Warren Act contract with the City for conveyance of non-project water in Cachuma Project facilities.

11. Westlands WD, CVP, California: Negotiation and execution of a long-term repayment contract to provide reimbursement of costs related to the construction of drainage facilities. This action is to satisfy the Federal government's obligation to provide drainage service to certain lands located within the San Luis Unit of the CVP.

12. Contra Costa WD, CVP, California: Amendment to an existing O&M agreement to transfer O&M of the Contra Costa Rock Slough Fish Screen to the District.

13. Sacramento River Division, CVP, California: Administrative assignments of various Sacramento River Settlement contracts.

14. PacifiCorp, Klamath Project, Oregon and California: Transfer of O&M of Link River Dam and associated facilities. Contract will allow for the continued O&M by PacifiCorp.

15. Tulelake ID, Klamath Project, Oregon and California: Transfer of O&M of Station 48 and gate on Drain No. 1, Lost River Diversion Channel.

16. U.S. Fish and Wildlife Service, Tulelake ID, Klamath Project, Oregon and California: Water service contract for deliveries to Lower Klamath National Wildlife Refuge, including transfer of O&M responsibilities for the P Canal system.

17. Tulelake ID, Klamath Project, Oregon and California: Amendment of repayment contract to eliminate reimbursement for P Canal O&M costs.

18. State of California, Department of Water Resources, CVP, California: Negotiation of a multi-year long-term wheeling agreements with the State of California, Department of Water Resources providing for the conveyance and delivery of CVP water through the State of California's water project facilities to Byron-Bethany ID (Musco Family Olive Company), Del Puerto WD, and the Department of Veteran Affairs, San Joaquin Valley National Veterans Cemetery.

19. Contra Costa WD, CVP, California: Title transfer of lands and features of the Contra Costa Canal System of the CVP.

20. Title transfer agreements, California, Nevada, and Oregon: Potential title transfers agreements pursuant to the John D. Dingell, Jr. Conservation, Management, and Recreation Act of March 12, 2019 (Pub. L. 116-9).

21. CVP, California: Operational agreements, exchange agreements, and contract amendments with non-Federal project entities as required for Federal participation in non-Federal storage projects pursuant to the WIIN Act.

22. San Luis Canal Company, Central California ID, Firebaugh Canal WD, Columbia Canal Company (collectively San Joaquin River Exchange Contractors), CVP, California: Amend 1968 Second Amended Contract for Exchange of Waters.

23. San Juan WD, CVP, California: Long-term Warren Act contract for up to 25,000 acre-feet annually for conveyance through Folsom Reservoir and associated facilities.

24. Klamath County Drainage Services District, Klamath Project, Oregon: Agreement for interim O&M of the 1-C Canal.

25. Fresno Slough WD, CVP, California: Proposed full assignment of up to 4,000 acre-feet of Fresno Slough WD's CVP supply to Angiola WD.

26. Mercy Springs WD, CVP, California: Proposed partial assignment of up to 1,300 acre-feet of Mercy Springs WD's CVP water supply to Angiola WD.

27. Water user entities responsible for payment of reimbursable costs for Reclamation projects in California, Nevada, and Oregon: Contracts to be executed pursuant to title IX of the Infrastructure Investment and Jobs Act of November 15, 2021 (Pub. L. 117-58), and/or contracts for XM pursuant to title IX, subtitle G of Omnibus Public Land Management Act of March 30, 2009 (Pub. L. 111-11). For more information regarding the Bipartisan Infrastructure Law go to https://www.usbr.gov/bil/.

28. Cachuma Project, California: Negotiation and execution of a repayment contract with the Cachuma Operation and Maintenance Board for SOD projects.

29. Klamath Project, Oregon: Negotiation and execution of repayment contract for Lost River Improvement Channel Pipe Replacement Project.

30. CVP, California: Negotiation and execution of repayment contract with San Luis and Delta-Mendota Water Authority for procurement and installation of two additional pumps at the Delta-Mendota Canal Intertie.

31. CVP, California: Renewal of Memorandums of Understanding with the United States Fish & Wildlife Service, contracts with California Department of Fish and Wildlife, and a contract with Grasslands Water District for a long term water supply for units of the National Wildlife Refuge System in the Central Valley of California, Gray Lodge, Los Banos, Volta, North Grasslands, and Mendota State Wildlife Areas, and Grasslands Resources Conservation District in the Central Valley of California, respectively.

32. Tri-Valley Water District, CVP, California: Proposed partial assignment of 150 acre-feet of Tri-Valley Water District's CVP water supply to Kaweah Delta Water Conservation District.

33. Irrigation water districts, individual irrigators, M&I and miscellaneous water users, CVP, California: Execution of Temporary water service contracts for surplus water under Section 215 of the Reclamation Reform Act of 1982 with various entities for volumes up to 100,000 acre-feet per year per contract.

34. CVP, California. Administrative assignments of various water service/repayment contracts.

36. Stony Creek Water District, CVP, California: Amendment to the existing repayment contract to modify the ratio between base supply and project water to be consistent with the water rights held by district landowners pursuant to the Angle Decree.

Discontinued contract actions:

1. (14) Irrigation WDs, individual irrigators and M&I water users, CVP, California: Temporary water service contracts for terms not to exceed 1 year for up to 100,000 acre-feet of surplus supplies of CVP water resulting from an unusually large water supply, not otherwise storable for project purposes, or from infrequent and otherwise unmanaged flood flows of short duration.

2. (20) Placer County Water Agency and East Bay Municipal Utility District, CVP, California: Long-term Warren Act contracts for up to 47,000 acre-feet annually with the Agency for storage and conveyance in Folsom Reservoir and with the District for conveyance through Folsom South Canal.

3. (39) CVP, California: Water service contract for fish & wildlife purposes with Contra Costa Water District and/or Los Vaqueros Reservoir Joint Powers Authority pursuant to title XXXIV of the Act of October 30, 1992 (106 Stat. 4706).

Christopher Beardsley,
Director, Mission Assurance and Protection Organization.

[FR Doc. 2025-06002 Filed 4-7-25; 8:45 am]

BILLING CODE 4332-90-P